DEPARTMENT OF DEFENSE

Department of the Army

[Docket ID: USA-2024-HQ-0011]

Proposed Collection; Comment Request

AGENCY: Department of the Army, Department of Defense (DoD).

ACTION: 60-Day information collection notice.

SUMMARY: In compliance with the Paperwork Reduction Act of 1995, the Army & Air Force Exchange Service (Exchange) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 4, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Army & Air Force Exchange Service, Office of the General Counsel, Compliance Division, ATTN: Teresa Schreurs, 3911 South Walton Walker Blvd., Dallas, TX 75236-1598 through email to PrivacyManager@aafes.com, or call the Exchange Compliance Division at 800-967-6067, Option 5.

SUPPLEMENTARY INFORMATION:

Title; Associated Form; and OMB Number: Exchange Customer Satisfaction Surveys; OMB Control Number 0702-0130.

Needs and Uses: The information collection requirement is necessary to provide the Exchange with holistic views of customers' shopping experiences. These surveys aid the Exchange's marketing directorate to address the effectiveness of providing goods and services and the quality of the Exchange mobile app and online shopping functionality, design, and use to meet with the patron's wants and desires. Respondents are authorized customers of the Army and Air Force Exchange Service, who voluntarily provide opinions or comments regarding their recent shopping experience at an Exchange facility or use of the Exchange on-line or mobile app. The survey provides valuable data used to enhance the customer's experience. If the Exchange does not receive data through these surveys, the Exchange's efforts to improve the customer shopping experience would not be as effective, efficient, or useful. Customer information is vital to the efficient and effective maintenance and improvement of the Exchange operations. The survey does not collect PII data.

Affected Public: Individuals or households.

Annual Burden Hours: 787.

Number of Respondents: 23,600.

Responses per Respondent: 1.

Annual Responses: 23,600.

Average Burden per Response: 2 minutes.

Frequency: On occasion.

Dated: July 30, 2024.
Aaron T. Siegel,
Alternate OSD Federal Register Liaison Officer, Department of Defense.

[FR Doc. 2024-17168 Filed 8-2-24; 8:45 am]

BILLING CODE 6001-FR-P